DEPARTMENT OF ENERGY

Federal Energy Regulatory Commission

[Docket No. RP02-361-026]

Gulfstream Natural Gas System, L.L.C.; Notice of Negotiated Rate

May 7, 2004.

Take notice that on May 3, 2004, Gulfstream Natural Gas System, L.L.C. (Gulfstream) tendered for filing as part of its FERC Gas Tariff, Original Volume No. 1, Original Sheet No. 8X, reflecting an effective date of July 1, 2004.

Gulfstream states that the purpose of this filing is to implement a negotiated rate transaction with Florida Power Corporation under Rate Schedule FTS that was previously approved by the Commission in its June 9, 2003 order in the above-captioned docket.

Gulfstream states that copies of its filing have been mailed to all affected customers and interested state commissions.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1146 Filed 5-12-04; 8:45 am]

BILLING CODE 6717-01-P